DEPARTMENT OF LABOR

Office of Workers' Compensation Programs

[OMB Control No. 1240-0059]

Proposed Extension of Information Collection; Peace Corps Volunteer Authorization for Examination and/or Treatment

AGENCY: Office of Workers' Compensation Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the OWCP is soliciting comments on the information collection for the Peace Corps Volunteer Authorization for Examination and/or Treatment, CA-15.

DATES: All comments must be received on or before August 4, 2025.

ADDRESSES: You may submit comment as follows. Please note that late, untimely filed comments will not be considered.

Electronic Submissions: Submit electronic comments in the following way:

• Federal eRulemaking Portal: https://www.regulations.gov. Follow the instructions for submitting comments for OWCP-2025-0009. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP, Office of Workers' Compensation Programs, U.S. Department of Labor, 200 Constitution Ave. NW, Room S-3323, Washington, DC 20210.

• OWCP will post your comment as well as any attachments, except for information submitted and marked as confidential, in the docket at https://www.regulations.gov.

FOR FURTHER INFORMATION CONTACT: Anjanette Suggs, Office of Workers' Compensation Programs, at suggs.anjanette@dol.gov @dol.gov (email); (202) 354-9660.

SUPPLEMENTARY INFORMATION:

I. Background

The Office of Workers' Compensation Programs (OWCP) administers the Federal Employees' Compensation Act (FECA), 5 U.S.C. 8101 et seq. The statute provides for the payment of benefits for wage loss and/or for permanent impairment to a scheduled member, arising out of a work-related injury or disease. The Act outlines the elements of pay which are to be included in an individual's pay rate, and sets forth various other criteria for determining eligibility to and the amount of benefits, including: augmentation of basic compensation for individuals with qualifying dependents; a requirement to report any earnings during a period that compensation is claimed; a prohibition against concurrent receipt of FECA benefits and benefits from the Office of Personnel Management or certain Department of Veterans Affairs benefits; a mandate that money collected from a liable third party found responsible for the injury for which compensation has been paid is applied to benefits paid or payable.

A Peace Corps Volunteer who sustains an injury or contracts an illness overseas while in Peace Corps service may be entitled to benefits under the FECA. Peace Corps Volunteers are in the performance of duty while abroad during the period of Peace Corps service for purposes of FECA coverage. An injury sustained outside the United States during service is deemed proximately caused by such service, unless the injury or illness was proximately caused by willful misconduct, intention to bring about injury or death, or intoxication.

The Sam Farr and Nick Castle Peace Corps Reform Act of 2018 (Farr-Castle), regulates various aspects of the Peace Corps, including changes to the provision of health care to volunteers. The legislation is named in honor of former Peace Corps volunteers Sam Farr, a retired Democratic congressman, and Nick Castle, who lost his life at age 23 while serving overseas in the Peace Corps in 2013.

The Peace Corps was established on September 22, 1961, by Public Law 87-293, known as the “Peace Corps Act.” It authorizes the enrollment of qualified citizens and nationals of the United States as “volunteers” and “volunteer leaders” for service abroad in interested countries and areas, to help the people of such countries and areas in meeting their needs for trained workers, and to help promote a better understanding of the American people on the part of the peoples served and a better understanding of other peoples on the part of the American people.

Under the provisions of the FECA, 5 U.S.C. 8142 of the FECA provides that,

(a) For the purpose of this section, “volunteer” means—

(1) a volunteer enrolled in the Peace Corps under section 2504 of title 22;

(2) a volunteer leader enrolled in the Peace Corps under section 2505 of title 22; and

(3) an applicant for enrollment as a volunteer or volunteer leader during a period of training under section 2507(a) of title 22 before enrollment.

Entitlement to disability compensation payments does not commence until the day after the date of termination of service as a volunteer. 5 U.S.C. 8142(b).

Farr-Castle directs the Secretary of the Department of Labor to authorize the Director of the Peace Corps to furnish medical benefits to a volunteer, who is injured during the volunteer's period of service, for a period of 120 days following the termination of such service if the Director certifies that the volunteer's injury probably meets the requirements set forth in 5 U.S.C. 8142(c)(3). The Secretary may then certify vouchers for these expenses for such volunteers out of the Employees' Compensation Fund.

OWCP and the Peace Corps collaborated on this form which authorizes medical treatment for recently terminated Peace Corps volunteers who require medical treatment for injuries/exposure sustained in the performance of their volunteer service. Issuance of this form will solely be at the discretion of the Peace Corps. This bridges the gap between the occurrence of an initial injury and/or disease exposure and the actual adjudication of a claim by OWCP by helping ensure that recently terminated volunteers receive prompt medical care, without delay, for a period of 120 days following separation from service.

See: https://www.dol.gov/agencies/owcp/FECA/regs/statutes/feca Sam Farr & Nick Castle Peace Corps Reform Act of 2018, Public Law 115-256, 102, 132 Stat. 3650 (2018) (codified as amended at 5 U.S.C. 8142). https://www.congress.gov/115/plaws/publ256/PLAW-115publ256.pdf.

II. Desired Focus of Comments

OWCP is soliciting comments concerning the proposed information collection related to the Request for Employment Information. OWCP is particularly interested in comments that:

• Evaluate whether the collection of information is necessary for the proper performance of the functions of the Agency, including whether the information has practical utility;

• Evaluate the accuracy of OWCP/DFEC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov and at DOL-OWCP located at 200 Constitution Ave. NW, Room S-3323, Washington, DC 20210. Questions about the information collection requirements may be directed to the person listed in the FOR FURTHER INFORMATION CONTACT section of this notice.

III. Current Actions

This information collection request concerns the Peace Corps Volunteer Authorization for Examination and/or treatment, CA-15. OWCP has updated the data with respect to the number of respondents, responses, burden hours, and burden costs supporting this information collection request from the previous information collection request.

Type of Review: Extension, without change, of a currently approved collection.

Agency: Office of Workers' Compensation Programs.

OMB Number: 1240-0059.

Affected Public: Private Sector—Business or other For-profits.

Number of Respondents: 48.

Frequency: On Occasion.

Number of Responses: 48.

Annual Burden Hours: 12.

Annual Respondent or Recordkeeper Cost: $281.00.

OWCP Form: Peace Corps Volunteer Authorization for Examination and/or Treatment.

Comments submitted in response to this notice will be summarized in the request for Office of Management and Budget approval of the proposed information collection request; they will become a matter of public record and will be available at https://www.reginfo.gov.

Anjanette Suggs,
Certifying Officer.

[FR Doc. 2025-10190 Filed 6-4-25; 8:45 am]

BILLING CODE 4510-CH-P